DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Application for Investment Assistance.

OMB Control Number: 0610-0094.

Form Number(s): ED-900.

Type of Review: Regular submission.

Burden Hours: 18,952.

Number of Respondents: 875.

Average Hours Per Response: 22 hours.

Needs and Uses: This information collection is necessary to determine the applicant's eligibility for investment assistance under EDA's authorizing statute, the Public Works and Economic Development Act of 1965, as amended (42 U.S.C. 3121 et seq.), and regulations (13 CFR Chapter III). The information also determines the (1) quality of the proposed scope of work to address the pressing economic distress of the region in which the proposed project will be located; (2) merits of the activities for which the investment assistance is requested; and (3) ability of the eligible applicant to carry out the proposed activities successfully.

Affected Public: State and local governments; Tribal government; Institutions of higher education; Non-profit institutions; Business or other for-profit organizations; Individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: November 7, 2007.
Gwellnar Banks,
Management Analyst, Office of the Chief Information Officer.

[FR Doc. E7-22224 Filed 11-13-07; 8:45 am]

BILLING CODE 3510-34-P